FEDERAL COMMUNICATIONS COMMISSION

47 CFR Part 73

[MB Docket No. 99-25; Report No. 2950]

Petitions for Reconsideration of Action of Rulemaking Proceeding

AGENCY: Federal Communications Commission.

ACTION: Petition for reconsideration.

SUMMARY: In this document, Petitions for Reconsideration (Petitions) have been filed in the Commission's Rulemaking proceeding against the adoption of a national cap of 50 applications and a market-based cap of one application per applicant per market for pending Auction No. 83 translator applications.

DATES: Oppositions to the Petition must be filed on or before June 15, 2012. Replies to an opposition must be filed on or before June 25, 2012.

ADDRESSES: Federal Communications Commission, 445 12th Street SW., Washington, DC 20554.

FOR FUTHER INFORMATION CONTACT: Kelly Donohue, Media Bureau, 202-418-8192.

SUPPLEMENTARY INFORMATION: This is a summary of Commission's document, Report No. 2950, released May 24, 2012. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Creation of a Low Power Radio Service, published at 77 FR 21002, April 9, 2012, in MB Docket No. 99-25, and published pursuant to 47 CFR 1.429(e). See 1.4(b)(1) of the Commission's rules (47 CFR 1.4(b)(1)).

Number of Petitions Filed: 5.

Federal Communications Commission.
Marlene H. Dortch,
Secretary, Office of the Secretary, Office of Managing Director.

[FR Doc. 2012-13152 Filed 5-30-12; 8:45 am]

BILLING CODE 6712-01-P